FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 013552N.

Name: Boston Shipping Enterprise, Inc.

Address: 506 Decatur Street, Brooklyn, NY 11233.

Date Revoked: February 23, 2012.

Reason: Failed to maintain a valid bond.

License Number: 14169N.

Name: Expedited Transportation Services, Inc.

Address: 505 Plantation Park Drive, Suite B, Loganville, GA 30052.

Date Revoked: March 14, 2012.

Reason: Failed to maintain a valid bond.

License Number: 14803N.

Name: Rocky International, LLC.

Address: 9550 Flair Drive, Suite 509, El Monte, CA 91731.

Date Revoked: March 19, 2012.

Reason: Voluntarily surrendered license.

License Number: 15121N.

Name: Lee, Michelle Eun Jung dba Pac Marine Express.

Address: 19401 South Main Street, Suite 102, Gardena, CA 90248.

Date Revoked: March 14, 2012.

Reason: Failed to maintain a valid bond.

License Number: 015548N.

Name: Demars International, Inc. dba Service America Independent Line.

Address: 41-11 30th Avenue, Astoria, NY 11103.

Date Revoked: February 23, 2012.

Reason: Failed to maintain a valid bond.

License Number: 17826F.

Name: The Relocation Freight Corporation of America.

Address: 16260 North 71st Street, Scottsdale, AZ 85254.

Date Revoked: February 16, 2012.

Reason: Failed to maintain a valid bond.

License Number: 017827F.

Name: Prudential Relocation, Inc. dba Prudential Relocation.

Address: 16260 North 71st Street, Scottsdale, AZ 85254.

Date Revoked: February 16, 2012.

Reason: Failed to maintain a valid bond.

License Number: 019572N.

Name: ENL Global, Inc.

Address: 3420 Garfield Avenue, City of Commerce, CA 90040.

Date Revoked: March 1, 2012.

Reason: Failed to maintain a valid bond.

License Number: 019720NF.

Name: Atlantic Coast Trading Inc.

Address: 2305 NW 107th Avenue, Suite 2-M-27, Doral, FL 33172.

Date Revoked: February 19, 2012.

Reason: Failed to maintain valid bonds.

License Number: 019947N.

Name: Airgate International Corporation (Chicago).

Address: 2249 Windsor Court, Addison, IL 60101.

Date Revoked: March 14, 2012.

Reason: Failed to maintain a valid bond.

License Number: 020193N.

Name: Summit Logistics, Inc.

Address: 177-25 Rockaway Blvd., Suite 107, Jamaica, NY 11434.

Date Revoked: February 24, 2012.

Reason: Failed to maintain a valid bond.

License Number: 020545F.

Name: Denizabel Shipping, Inc.

Address: 19558 NW 50th Court, Miami Gardens, FL 33055.

Date Revoked: March 2, 2012.

Reason: Failed to maintain a valid bond.

License Number: 020597N.

Name: Ferrara International Worldwide Inc.

Address: 1319 North Broad Street, Hillside, NJ 07205.

Date Revoked: February 16, 2012.

Reason: Failed to maintain a valid bond.

License Number: 020849N.

Name: Master Freight America, Corp.

Address: 8925 NW 26th Street, Miami, FL 33172.

Date Revoked: March 14, 2012.

Reason: Failed to maintain a valid bond.

License Number: 021062F.

Name: International Trade Compliance Group, LLC.

Address: 101 North Riverside Drive, Suite 203, Pompano Beach, FL 33062.

Date Revoked: February 21, 2012.

Reason: Failed to maintain a valid bond.

License Number: 021103N.

Name: The Visca Corp.

Address: 5540 West Century Blvd., Unit 5, Los Angeles, CA 90045.

Date Revoked: February 17, 2012.

Reason: Failed to maintain a valid bond.

License Number: 021378NF.

Name: Interex Mega Line USA, Inc.

Address: 15550 Vickery Drive, Suite 100, Houston, TX 77032.

Date Revoked: February 25, 2012.

Reason: Failed to maintain valid bonds.

License Number: 021621N.

Name: Supreme International Shippers and Movers Inc.

Address: 6921 NW 87th Avenue, Miami, FL 33178.

Date Revoked: February 27, 2012.

Reason: Failed to maintain a valid bond.

License Number: 021932N.

Name: Cargolinx Inc.

Address: 6405 NW 36th Street, Suite 107, Miami, FL 33166.

Date Revoked: February 25, 2012.

Reason: Failed to maintain a valid bond.

License Number: 022238NF.

Name: Grimes Supply Chain Services, Inc.

Address: 600 North Ellis Road, Jacksonville, FL 32254.

Date Revoked: March 31, 2012.

Reason: Failed to maintain a valid bond.

License Number: 022431N.

Name: SPG Logistics, Inc.

Address: 8081 NW 67th Street, Miami, FL 33166.

Date Revoked: March 11, 2012.

Reason: Failed to maintain a valid bond.

Vern W. Hill,
Director, Bureau of Certification and Licensing.

[FR Doc. 2012-9509 Filed 4-19-12; 8:45 am]

BILLING CODE P